DEPARTMENT OF HEALTH AND HUMAN SERVICES

Office of the National Coordinator for Health Information Technology; American Health Information Community Quality Workgroup

ACTION: Announcement of meeting.

SUMMARY: This notice announces the fifth meeting of the American Health Information Community Quality Workgroup in accordance with the Federal Advisory Committee Act (Pub. L. No. 92-463, 5 U.S.C., App.).

DATES: January 9, 2007, from 1 p.m. to 5 p.m.

ADDRESSES: Mary C. Switzer Building (330 C Street, SW., Washington, DC 20201), Conference Room 4090. (You will need a photo ID to enter a Federal building.)

FOR FURTHER INFORMATION CONTACT: http://www.hhs.gov/healthit/ahic/quality_main.html.

SUPPLEMENTARY INFORMATION: During the meeting, the Workgroup will continue their discussion on a core set of quality measures and on the specific charge to the Workgroup. The Workgroup members will continue discussion on their work to envision and describe a world in which quality measurement and reporting are automated and clinical decision support is used to improve performance on those quality measures. This shared vision will be used to inform potential recommendations to the AHIC addressing the broad and specific charges to the Workgroup.

The meeting will be available via internet access. For additional information, go to http://www.hhs.gov/healthit/ahic/quality_instruct.html.

Dated: December 14, 2006.
Judith Sparrow,
Director, American Health Information Community, Office of Programs and Coordination, Office of the National Coordinator for Health Information Technology.

[FR Doc. 06-9809 Filed 12-20-06; 8:45 am]

BILLING CODE 4150-24-M